ENVIRONMENTAL PROTECTION AGENCY

[FRL-7437-2]

EPA Public Meeting—Closing the Gap: Innovative Responses for Sustainable Water Infrastructure; Notice of Public Meeting

AGENCY: Environmental Protection Agency (EPA).

ACTION: Notice.

SUMMARY: The Environmental Protection Agency is hosting a one-day public forum to discuss water and wastewater infrastructure in the United States. EPA's goal is to bring together stakeholders, including those from business, government, and academia, to exchange information and views on management and sustainable financing of the nation's water and wastewater infrastructure. The meeting will be in Washington, DC, on January 31, 2003, starting at 9 a.m. This meeting is open to the public.

The forum will be composed primarily of two moderated expert panels who will offer their insights. At the forum, the audience will have an opportunity to provide questions to be discussed by the experts.

DATES: The meeting will begin at 9 a.m. on January 31, 2003.

ADDRESSES: The meeting will be held in the ballroom at the Marriott at Metro Center at 775 12th Street, NW., Washington, DC 20005.

FOR FURTHER INFORMATION CONTACT: For more information on the location and agenda of this meeting, and general background information including related documents and reports on water and wastewater infrastructure needs, please see the Office of Water Web Page at http://www.epa.gov/ow/ or contact the Safe Drinking Water Hotline, phone: (800) 426-4791 or (703) 285-1093. To assist in making arrangements for the number of attendees, please send an e-mail to closingthegap@cadmusgroup.com with the name, title, and organization of each person attending. Seating is limited to 300 people. If you need special accommodations at this meeting, including signing, you should contact Shawna Bergman at (202) 564-3641 by January 24, 2003, so that we can make appropriate arrangements.

Dated: January 3, 2003.
G. Tracy Mehan, III,
Assistant Administrator for Water.

[FR Doc. 03-392 Filed 1-8-03; 8:45 am]

BILLING CODE 6560-50-P